DEPARTMENT OF COMMERCE

Foreign-Trade Zones Board

[Order No. 2083]

Reorganization and Expansion of Foreign-Trade Zone 142 under Alternative Site Framework Salem/Millville, New Jersey

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR Sec. 400.2(c)) as an option for the establishment or reorganization of zones;

Whereas, the South Jersey Port Corporation, grantee of Foreign-Trade Zone 142, submitted an application to the Board (FTZ Docket B-63-2018, docketed October 11, 2018) for authority to reorganize and expand under the ASF with a service area of Burlington, Camden, Cape May, Cumberland, Gloucester, Mercer and Salem Counties, New Jersey, within and adjacent to the Philadelphia U.S. Customs and Border Protection port of entry, and FTZ 142's existing Sites 1, 2 and 3 and proposed Site 4 would be categorized as magnet sites;

Whereas, notice inviting public comment was given in the Federal Register (83 FR 52382, October 17, 2018) and the application has been processed pursuant to the FTZ Act and the Board's regulations; and,

Whereas, the Board adopts the findings and recommendations of the examiner's report, and finds that the requirements of the FTZ Act and the Board's regulations are satisfied;

Now, Therefore, the Board hereby orders:

The application to reorganize and expand FTZ 142 under the ASF is approved, subject to the FTZ Act and the Board's regulations, including Section 400.13, to the Board's standard 2,000-acre activation limit for the zone, and to an ASF sunset provision for magnet sites that would terminate authority for Sites 1, 2, 3 and 4 if not activated within five years from the month of approval.

Dated: June 11, 2019.
Jeffrey I. Kessler,
Assistant Secretary for Enforcement and Compliance Alternate Chairman, Foreign-Trade Zones Board.

[FR Doc. 2019-13125 Filed 6-19-19; 8:45 am]

BILLING CODE 3510-DS-P